DEPARTMENT OF COMMERCE

National Oceanic and Atmospheric Administration

RIN 0648-XG198

North Pacific Fishery Management Council; Public Meeting

AGENCY: National Marine Fisheries Service (NMFS), National Oceanic and Atmospheric Administration (NOAA), Commerce.

ACTION: Notice of a public meeting.

SUMMARY: The North Pacific Fishery Management Council will host a meeting of the Council Coordination Committee (CCC), consisting of the Regional Fishery Management Council chairs, vice chairs, and executive directors on May 22 through May 24, 2018.

DATES: The CCC will begin at 1 p.m. on Tuesday, May 22, 2018, recess at 4:30 p.m.; and reconvene at 8:30 a.m. on Wednesday, May 23, 2018, recess at 4:30 p.m.; and reconvene at 8:30 a.m. Thursday, May 24, 2018 and adjourn at 5 p.m. or when business is complete. The Council Communications Group (CCG) will meet Tuesday, May 22, 2018 at 8:30 a.m., recess at 5 p.m.; and reconvene at 8:30 a.m. on Wednesday, May 23, 2018, adjourn at 5 p.m.

ADDRESSES: The meeting will be held at Harrigan Centennial Hall, 330 Harbor Drive, Sitka, AK; Westmark Hotel, 330 Seward Street, Sitka, AK.

Council address: North Pacific Fishery Management Council, 605 W. 4th Avenue, Suite 306, Anchorage, AK 99501-2252.

FOR FURTHER INFORMATION CONTACT: David Witherell, at (907) 271-2809.

SUPPLEMENTARY INFORMATION:

Agenda

Tuesday, May 22, 2018 through Thursday, May 24, 2018

CCC Session: The agenda for the CCC's plenary session will include the following issues.

(1) Budget Update

(2) National Bycatch Reduction Policy

(3) Electronic Monitoring Policy Directive

(4) Data Modernization

(5) Development of Electronic Monitoring in the North Pacific

(6) Legislative Update

(7) Recusal Policy

(8) Ecosystem Based Fishery Management Regional Implementation Plans

(9) Exempted Fishing Permits

(10) Best Scientific Information Available

(11) NMFS Policy Directive

(12) Allocation Reviews

(13) Research Priorities

(14) Aquaculture

(15) International Affairs/Seafood Inspection

(16) Regulatory Reform

(17) Recreational Fisheries Overview

(18) Citizen Science

(19) NEFMC Program Review

(20) NOAA Fisheries website Transition

(21) CCC Workgroup Reports (communications group, habitat committee, scientific coordination subcommittee)

(22) CCC Terms of Reference

(23) Other Business

The CCG agenda will include the following issues:

(1) Communication and technology tools and procedures

(2) Promoting the regional Council system

(3) Communicating effectively using social media

(4) Public comment/input outside of Council meetings/public hearings

(5) Working effectively with the news media

(6) Regional and national communications coordination between councils and NOAA

(7) Council and advisory body meeting communication protocols

(8) Education programs and training of Council/staff

(9) Publications and outreach

(10) Wrap up: Path forward

The Agenda is subject to change, and the latest version will be posted at http://www.npfmc.org/.

Public Comment

Public comment letters will be accepted and should be submitted either electronically to Diana Evans, Council staff: diana.evans@noaa.gov or through the mail: North Pacific Fishery Management Council, 605 W. 4th Ave., Suite 306, Anchorage, AK 99501-2252.

Special Accommodations

These meetings are physically accessible to people with disabilities. Requests for sign language interpretation or other auxiliary aids should be directed to Shannon Gleason at (907) 271-2809 at least 7 working days prior to the meeting date.

Dated: April 27, 2018.
Tracey L. Thompson,
Acting Deputy Director, Office of Sustainable Fisheries, National Marine Fisheries Service.

[FR Doc. 2018-09342 Filed 5-2-18; 8:45 am]

BILLING CODE 3510-22-P